DEPARTMENT OF AGRICULTURE

Forest Service

Roadless Area Protection; Interim Direction; Correction

AGENCY: Forest Service, USDA.

ACTION: Notice; correction.

SUMMARY: The Forest Service published a notice in the Federal Register of August 22, 2001, providing information and requesting comments on the Interim Direction for roadless area protection. The document contained an incorrect telephone number for those requesting further information.

FOR FURTHER INFORMATION CONTACT: Jody Sutton, Program Coordinator, Content Analysis Team, at telephone number (801) 517-1023.

Correction

In the Federal Register of August 22, 2001, in FR Doc. 01-21185, on page 44111, in the third column, correct the telephone number in the FOR FURTHER INFORMATION CONTACT heading to read as follows: FOR FURTHER INFORMATION CONTACT:

Jody Sutton, Program Coordinator, Content Analysis Team, Forest Service, at telephone number (801) 517-1023.

Dated: September 13, 2001.
James R. Furnish,
Deputy Chief for National Forest System.

[FR Doc. 01-23304 Filed 9-18-01; 8:45 am]

BILLING CODE 3410-11-P